DEPARTMENT OF COMMERCE

National Oceanic and Atmospheric Administration

RIN 0648-AS67

Fisheries of the Caribbean, Gulf of Mexico, and South Atlantic; Reef Fish Fishery of the Gulf of Mexico; Gulf Red Snapper Individual Fishing Quota Program

AGENCY: National Marine Fisheries Service (NMFS), National Oceanic and Atmospheric Administration (NOAA), Commerce.

ACTION: Notice of determination of extended duration of catastrophic conditions.

SUMMARY: In accordance with the regulations implementing the individual fishing quota (IFQ) program for the commercial red snapper fishery in the Gulf of Mexico, the Administrator, Southeast Region, NMFS (RA) has determined that catastrophic conditions still exist in certain parts of Louisiana and Texas, specifically from Cameron, Louisiana southwest to Galveston Island, Texas, as a result of recent hurricanes. The RA, therefore, is extending authorization for the use of paper-based forms for basic required IFQ administrative functions, e.g., landing transactions, through December 31, 2008. Although electronic transactions are to be used if power to the affected area has been restored, paper-based forms will be authorized in the areas from Cameron, Louisiana southwest to Galveston Island, Texas. The determination of catastrophic conditions and allowance of alternative methods for completing required IFQ administrative functions is intended to facilitate continuation of IFQ operations during the period of catastrophic conditions.

DATES: The RA is authorizing IFQ participants within this affected area to use paper-based forms from October 24, 2008 through December 31, 2008.

FOR FURTHER INFORMATION CONTACT: IFQ Customer Service, telephone 727-425-7627, fax 727-824-5308, e-mail SER-IFQ.Support@noaa.gov.

SUPPLEMENTARY INFORMATION: Regulations implementing the IFQ program for the commercial red snapper fishery in the Gulf of Mexico (50 CFR 622.16) require that IFQ participants have access to a computer and Internet access and that they conduct administrative functions associated with the IFQ program, e.g., landing transactions, online. However, these regulations also specify that during catastrophic conditions, as determined by the RA, the RA can authorize IFQ participants in the affected area who are unable to submit information electronically to use paper-based forms to complete IFQ administrative functions for the duration of the catastrophic conditions. In a notice published September 24, 2008 (73 FR 55052), the RA published his determination that catastrophic conditions existed in those areas of the states of Louisiana and Texas from the mouth of the Mississippi River west to Freeport, Texas, and authorized the use of paper-based forms until October 24, 2008.

Power has been restored in portions of the previously affected area, but some communities along the northeast coast of Texas and western coast of Louisiana are still without power and have significant damage to infrastructure. The RA has determined that catastrophic conditions from Hurricanes Gustav and Ike still exist from Cameron, Louisiana southwest to Galveston Island, Texas. Therefore, the RA is extending the authorization for IFQ participants within this affected area to use paper-based forms through December 31, 2008. NMFS will provide additional notification to affected participants via NOAA weather radio, fishery bulletins, and other appropriate means.

NMFS previously provided each IFQ dealer the necessary paper forms (sequentially coded) and instructions in the event catastrophic conditions exist. Paper-based forms for such functions as landing transactions must be returned to the RA as soon as possible after the transaction has been completed. The electronic system for submitting information to NMFS will continue to be available to all participants, and participants in the affected area are encouraged to continue using this system, if accessible.

The administrative program functions available to participants in the area affected by catastrophic conditions will be limited under the paper-based system. There will be no mechanism for transfers of IFQ shares or allocation under the paper-based system in effect during catastrophic conditions. Assistance in complying with the requirements of the paper-based system will be available via IFQ Customer Service 1-866-425-7627 Monday through Friday between 8 a.m. and 4:30 p.m. eastern time.

Authority: 16 U.S.C. 1801 et seq.

Dated: October 21, 2008.
James P. Burgess,
Acting Director, Office of Sustainable Fisheries, National Marine Fisheries Service.

[FR Doc. E8-25413 Filed 10-23-08; 8:45 am]

BILLING CODE 3510-22-S